SECURITIES AND EXCHANGE COMMISSION

[SEC File No. 270-544, OMB Control No. 3235-0604]

Submission for OMB Review; Comment Request

Upon Written Request Copies Available From: Securities and Exchange Commission, Office of FOIA Services, 100 F Street NE, Washington, DC 20549-2736

Extension:

Form 10-D

Notice is hereby given that, pursuant to the Paperwork Reduction Act of 1995 (44 U.S.C. 3501 et seq.), the Securities and Exchange Commission (“Commission”) has submitted to the Office of Management and Budget this request for extension of the previously approved collection of information discussed below.

Form 10-D is a periodic report used by asset-backed issuers to file distribution and pool performance information pursuant to Rule 13a-17 (17 CFR 240.13a-17) or Rule 15d-17 (17 CFR 240.15d-17) of the Securities Exchange Act of 1934 (“Exchange Act”) (15 U.S.C. 78a et seq.). The form is required to be filed within 15 days after each required distribution date on the asset-backed securities, as specified in the governing documents for such securities. The information provided by Form 10-D is mandatory and all information is made available to the public upon request. Form 10-D takes approximately 39.0 hours per response to prepare and is filed by approximately 8,258 respondents. We estimate that 75% of the 39.0 hours per response (29.25 hours) is prepared by the company for a total annual reporting burden of 241,547 hours (29.25 hours per response × 8,258 responses).

An agency may not conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission, c/o Cynthia Roscoe, 100 F Street NE, Washington, DC 20549, or by sending an email to: PRA_Mailbox@sec.gov.

Dated: July 14, 2021.
J. Matthew DeLesDernier,
Assistant Secretary.

[FR Doc. 2021-15430 Filed 7-20-21; 8:45 am]

BILLING CODE 8011-01-P